DEPARTMENT OF THE INTERIOR

Bureau of Land Management

[CO-921-07-1320-EL; COC-72980]

Notice of Correction to Notice of Federal Competitive Coal Lease Sale Offer, Colorado

AGENCY: Bureau of Land Management, Interior.

ACTION: Notice of Correction.

SUMMARY: The Bureau of Land Management published a Notice of Federal Competitive Coal Lease Sale Offer in the Federal Register on October 31, 2008 [73 FR 64981]. The DATES section of this notice incorrectly listed January 14, 2008 instead of January 14, 2009. The lease sale will be held at 10 a.m., Wednesday, January 14, 2009. Sealed bids must be received on or before 10 a.m., Wednesday, January 14, 2009.

FOR FURTHER INFORMATION CONTACT: Kurt Barton at BLM Colorado State Office, 2850 Youngfield Street, Lakewood, Colorado 80215, or by telephone 303-239-3714.

Kurt Barton,
Solid Minerals Staff, Division of Energy, Lands and Minerals.

[FR Doc. E8-27710 Filed 11-20-08; 8:45 am]

BILLING CODE 4310-JB-P